DEPARTMENT OF HOMELAND SECURITY

Coast Guard

[Docket No. USCG 2009-0257]

National Maritime Security Advisory Committee; Meeting

AGENCY: Coast Guard, DHS.

ACTION: Notice of meeting.

SUMMARY: The National Maritime Security Advisory Committee (NMSAC), established as a discretionary committee in accordance with the provisions of the Federal Advisory Committee Act, 5 U.S.C. App. (Pub. L. 92-463), will meet in Washington, DC to discuss various issues relating to national maritime security. This meeting will be open to the public in the morning and will be closed to the public in the afternoon.

DATES: The Committee will meet on Monday, May 4, 2009 from 9 a.m. to 4 p.m. This meeting may close early if all business is finished. Written material and requests to make oral presentations should reach the Coast Guard on or before April 24, 2009. Requests to have a copy of your material distributed to each member of the committee should reach the Coast Guard on or before April 15, 2008.

ADDRESSES: The Committee will meet at Coast Guard Headquarters, Room 4202, 2100 2nd Street SW., Washington, DC 20593. A government-issued photo identification (for example, driver's license) will be required for entrance to the building. Additionally, this meeting will be broadcast via a Web enabled interactive online format. Send written material and requests to make oral presentations to Mr. Ryan Owens, Deputy Designated Federal Officer (DFO) of the National Maritime Security Advisory Committee, 2100 2nd Street SW., Room 6228, Washington, DC 20593. You may also e-mail material to ryan.f.owens@uscg.mil. This notice may be viewed in our online docket, USCG-2009-0257, at http://www.regulations.gov.

FOR FURTHER INFORMATION CONTACT: Mr. Ryan Owens, Deputy DFO of NMSAC, telephone 202-372-1108 or ryan.f.owens@uscg.mil.

SUPPLEMENTARY INFORMATION: Notice of this meeting is given under the Federal Advisory Committee Act, 5 U.S.C. App. (Pub. L. 92-463).

Agenda of Public Meeting

The agenda for the public portion of the May 4 Committee meeting is as follows:

(1) Update on Transportation Workers Identification Credential.

(2) Update on Seafarers' Access to Shore leave.

(3) Discussion of USCG 5 year review of the International Ship and Port Facility Security (ISPS) code.

(5) Discussion of Tiering Maritime Transportation Security Act (MTSA) regulated facilities.

(6) Discussion of the eNOAD process.

The purpose of the second half of the meeting is to discuss national security matters. Because these matters are of a sensitive and classified nature, it has been determined that this portion of the committee meeting will be closed to the public pursuant to subsection (c)(1)of section 552b of Title 5 U.S.C.

Procedural

This meeting is open to the public for the morning session and will also be conducted via an online meeting format. Please note that the public portion of the meeting may close early if all business is finished. Seating is very limited, and members of the public will require additional screening and an escort while in Coast Guard Headquarters. Members of the public wishing to attend should register with Mr. Ryan Owens, Deputy DFO of NMSAC, telephone 202-372-1108 or ryan.f.owens@uscg.mil no later than April 29, 2009. Parking near the building is limited. Public transportation to the building (Bus Route 71) is limited to rush hours, approximately 6 to 9:30 a.m. and 3 to 6 p.m. Contact the Washington Metropolitan Area Transit Authority at 202-637-7000 or http://www.wmata.com/ for additional public transit information.

Additionally, if you would like to participate in this meeting via the online web format, please log onto https://fedgov.webex.com/fedgov/onstage/g.php?t=a&d=690008779 and follow the online instructions to register for this meeting. Public libraries offer free Internet access to members of the public. A recording of the meeting will also be available through a link in our online docket. The docket may be accessed by going to http://www.regulations.gov, selecting the Advanced Docket Search option on the right side of the screen, inserting USCG-2009-0257 in the Docket ID box, pressing Enter, and then clicking on the item in the Docket ID column.

At the Chair's discretion, members of the public may make oral presentations during the public portion of the meeting. If you would like to make an oral presentation at the public portion of the meeting, please notify the Deputy DFO no later than Friday, April 24. Written material for distribution at a meeting should reach the Coast Guard no later than Friday, April 24. If you would like a copy of your material distributed to each member of the committee in advance of a meeting, please submit 25 copies to the Deputy DFO no later than Friday, April 24.

Information on Services for Individuals With Disabilities

For information on facilities or services for individuals with disabilities or to request special assistance at the meeting, please contact Mr. Ryan Owens, the Deputy DFO, as soon as possible at telephone 202-372-1108 or ryan.f.owens@uscg.mil.

Dated: April 14, 2009.
Ryan F. Owens,
U.S. Coast Guard, Office of Port and Facility Activities.

[FR Doc. E9-8975 Filed 4-17-09; 8:45 am]

BILLING CODE 4910-15-P